POSTAL SERVICE

39 CFR Parts 232 and 447

Conduct on Postal Property; Technical Amendment

AGENCY: Postal Service.

ACTION: Final rule.

SUMMARY: The Postal Service is amending two provisions in title 39, Code of Federal Regulations, to correct an outdated citation to a superseded Executive Order.

EFFECTIVE DATE: August 28, 2007.

FOR FURTHER INFORMATION CONTACT: John Covell, Office of Counsel Program Specialist, U.S. Postal Inspection Service, 202-268-3381.

SUPPLEMENTARY INFORMATION: Currently, references to Executive Order No. 10927, of March 18, 1961, dealing with charitable fund-raising and related matters, appear in 39 CFR 232.1(h) and 39 CFR 447.21. Those references are obsolete, since the revocation of that Order by Executive Order No. 12353, issued March 23, 1982. The Postal Service has determined it is appropriate to correct the obsolete references.

List of Subjects

39 CFR Part 232

Authority delegations (Government agencies), Crime, Federal buildings and facilities, Government property, Law enforcement officers, Postal Service, Security measures.

39 CFR Part 447

Conflict of interests, Political activities.

Accordingly, 39 CFR parts 232 and 447 are amended as follows:

PART 232—CONDUCT ON POSTAL PROPERTY

1. The authority citation for part 232 continues to read as follows:

Authority: 18 U.S.C. 13, 3061; 21 U.S.C. 802, 844; 39 U.S.C. 401, 403(b)(3), 404(a)(7), 1201(2).

2. Section 232.1(h)(1) is revised to read as follows:

§ 232.1 Conduct on postal property.

* * * * *

(h) Soliciting, electioneering, collecting debts, vending, and advertising. (1) Soliciting alms and contributions, campaigning for election to any public office, collecting private debts, soliciting and vending for commercial purposes (including, but not limited to, the vending of newspapers and other publications), displaying or distributing commercial advertising, collecting signatures on petitions, polls, or surveys (except as otherwise authorized by Postal Service regulations), are prohibited. These prohibitions do not apply to:

(i) Commercial or nonprofit activities performed under contract with the Postal Service or pursuant to the provisions of the Randolph-Sheppard Act;

(ii) Posting notices on bulletin boards as authorized in § 243.2(a) of this chapter;

(iii) The solicitation of Postal Service and other Federal military and civilian personnel for contributions by recognized agencies as authorized under Executive Order 12353, of March 23, 1982.

* * * * *

PART 447—RULES OF CONDUCT FOR POSTAL EMPLOYEES

1. The authority citation for part 233 continues to read as follows:

Authority: 39 U.S.C. 401.

2. Section 447.21(g) and the note following are revised to read as follows:

§ 447.21 Prohibited conduct.

* * * * *

(g) No employee while on property owned or leased by the Postal Service or the United States or while on duty, shall participate in any gambling activity, including the operation of a gambling device, in conducting or acting as an agent for a lottery or pool, in conducting a game for money or property, or in selling or purchasing a numbers slip or ticket.

Note: Paragraph (g) of this section does not prohibit participation in activities specified herein if participation is necessitated by an employee's law enforcement duties, or if participation is in accordance with section 7 of Executive Order No. 12353, of March 23, 1982, relating to agency-approved solicitations.

Stanley F. Mires,
Chief Counsel, Legislative.

[FR Doc. E7-16986 Filed 8-27-07; 8:45 am]

BILLING CODE 7710-12-P